FEDERAL COMMUNICATIONS COMMISSION

47 CFR Part 73

[DA 08-70; MB Docket No. 07-78; RM-11366; RM-11383]

Radio Broadcasting Services; Beeville, Christine, George West, and Tilden, TX

AGENCY: Federal Communications Commission.

ACTION: Final rule.

SUMMARY: The Audio Division grants a Petition for Rule Making issued at the request of Katherine Pyeatt, proposing the allotment of Channel 245C3 at Christine, Texas, as its first local aural transmission service. The reference coordinates for Channel 245C3 at Christine are 28-40-00 NL and 98-30-15 WL, located 13.6 kilometers (8.4 miles) south of Christine. Additionally, a counterproposal filed by Linda Crawford was dismissed, requesting the allotments of Channel 245A at Christine, Texas, and Channel 250A at Tilden, Texas, as first local aural transmission services. To accommodate the proposed Tilden allotment, the counterproposal requests the substitution of Channel 296A for vacant Channel 250A at George West, Texas, which in turn requires the substitution of Channel 246A for Channel 296A at Beeville, Texas, and modification of the Station KRXB(FM) license. We hereby change the effective date of this final rule in compliance with 47 CFR 1.427 because the final rule was never published in the Federal Register. Accordingly, the Report and Order is made effective 30 days from the time the final rule for the above caption proceeding is published in the Federal Register.

DATES: Effective October 20, 2008.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 07-78, adopted January 9, 2008, and January 11, 2008. The full text of this Commission decision is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by adding Christine, Channel 245C3.

Federal Communications Commission.
John A. Karousos,
Assistant Chief, Audio Division, Media Bureau.

[FR Doc. E8-21739 Filed 9-17-08; 8:45 am]

BILLING CODE 6712-01-P